DEPARTMENT OF AGRICULTURE

National Agricultural Statistics Service

Notice of Intent To Seek Approval To Renewal an Information Collection; Correction

AGENCY: National Agricultural Statistics Service, USDA.

ACTION: Notice; correction.

SUMMARY: In accordance with the Paperwork Reduction Act of 1995, this notice announces the intention of the National Agricultural Statistics Service (NASS) to request revision and extension of a currently approved information collection, Objective Yield Surveys.

DATES: Comments on this notice must be received by March 16, 2026 to be assured of consideration.

ADDRESSES: You may submit comments, identified by docket number 0535-0088 by any of the following methods:

• Email: ombofficer@nass.usda.gov. Include docket number above in the subject line of the message.

• eFax: (855) 838-6382.

• Mail: Mail any paper, disk, or CD-ROM submissions to: NASS OMB Clearance Officer, U.S. Department of Agriculture, Room 5336 South Building, 1400 Independence Avenue SW, Washington, DC 20250-2024.

• Hand Delivery/Courier: Hand deliver to: NASS OMB Clearance Officer, U.S. Department of Agriculture, Room 5336 South Building, 1400 Independence Avenue SW, Washington, DC 20250-2024.

SUPPLEMENTARY INFORMATION:

Correction

In the Federal Register of January 14, 2026, in FR Doc. No. 2026-00542, on page 1501, correct the SUPPLEMENTARY INFORMATION captain, paragraph 1 and 2, under the Abstract section, to read:

Abstract: The primary objective of the National Agricultural Statistics Service (NASS) is to collect, prepare and issue State and national estimates of crop and livestock production, prices and disposition as well as economic statistics, farm numbers, land values, on-farm pesticide usage, pest crop management practices, as well as the Census of Agriculture. The Objective Yield Surveys objectively predict yields for corn, soybeans, wheat, citrus, and nuts. Sample fields are randomly selected for these crops, plots are laid out, and periodic counts and measurements are taken and then used to forecast production during the growing season. Production forecasts are published in USDA crop reports.

The fruit and nut objective yield surveys are conducted under cooperative agreements with several State Departments of Agriculture. The individual States will be reimbursing NASS for the costs associated with these additional surveys.

Yvette Anderson,
Federal Register Liaison Officer.

[FR Doc. 2026-01161 Filed 1-21-26; 8:45 am]

BILLING CODE 3410-20-P